DEPARTMENT OF COMMERCE

Bureau of Export Administration

Sensors and Instrumentation Technical Advisory Committee; Notice of Open Meeting

The Sensors and Instrumentation Technical Advisory Committee will meet on September 21, 2000, 9:00 a.m., in the Herbert C. Hoover Building, Room 3884, 14th Street & Pennsylvania Avenue, N.W., Washington, D.C. The Committee advises the Office of the Assistant Secretary for Export Administration with respect to technical questions that affect the level of export controls applicable to sensors and instrumentation equipment and technology.

Agenda

1. Election of Chairman.

2. Presentation on definitions to be added to the Commerce Control List and the Wassenaar Arrangement.

4. Discussion on licensing policy issues.

The meeting will be open to the public and a limited number of seats will be available. Reservations are not accepted. To the extent that time permits, members of the public may present oral statements to the Committee. Written statements may be submitted at any time before or after the meeting. However, to facilitate distribution of public presentation materials to the Committee members, the Committee suggests that presenters forward the public presentation materials two weeks prior to the meeting date to the following address: Ms. Lee Ann Carpenter, OSIES/EA/BXA MS:3876, U.S. Department of Commerce, 14th St. & Constitution Ave., N.W., Washington, D.C. 20230.

For more information or copies of the minutes, contact Lee Ann Carpenter on (202) 482-2583.

Dated: August 7, 2000.
Lee Ann Carpenter,
Committee Liaison Officer.

[FR Doc. 00-20479 Filed 8-11-00; 8:45 am]

BILLING CODE 3510-JT-M